DEPARTMENT OF COMMERCE

International Trade Administration

[A-588-804]

Antifriction Bearings (Other Than Tapered Roller Bearings) and Parts Thereof From Japan; Amended Final Results of Antidumping Duty Administrative Reviews

AGENCY: Import Administration, International Trade Administration, Department of Commerce.

ACTION: Notice of final court decision and amended final results of administrative reviews.

EFFECTIVE DATE: February 23, 2001.

FOR FURTHER INFORMATION CONTACT: Thomas Schauer or Richard Rimlinger, Import Administration, International Trade Administration, U.S. Department of Commerce, 14th Street and Constitution Avenue, NW., Washington, DC 20230; telephone (202) 482-4733.

Applicable Statute: Unless otherwise indicated, all citations to the Tariff Act of 1930, as amended (the Tariff Act), are references to the provisions in effect as of December 31, 1994. In addition, unless otherwise indicated, all citations to the Department of Commerce's (the Department's) regulations are to the regulations as codified at 19 CFR Part 353 (1995).

SUPPLEMENTARY INFORMATION:

Background

On December 28, 2000, the Department of Commerce (the Department) published in the Federal Register its notice of Antifriction Bearings (Other Than Tapered Roller Bearings) and Parts Thereof From Japan; Amended Final Results of Antidumping Duty Administrative Review, 65 FR 82323. In that notice, the Department published the final margins for NTN Corporation and Koyo Seiko Co., Ltd. (Koyo). The classes or kinds of merchandise covered by the review are ball bearings and parts thereof (BBs), cylindrical roller bearings and parts thereof (CRBs), and spherical plain bearings and parts thereof (SPBs). The period of review is May 1, 1992, through April 30, 1993.

The Department has discovered that the margins it published for Koyo were not correct. The margins the Department published were 14.90 percent and 6.53 percent for BBs and CRBs, respectively. The correct margins are 12.15 percent and 3.43 percent for ball bearings and cylindrical roller bearings, respectively.

Amendment To Final Results

Pursuant to section 516A(e) of the Tariff Act, we are amending the final results of administrative reviews of the antidumping duty orders on antifriction bearings (other than tapered roller bearings) and parts thereof from Japan and the period May 1, 1992, through April 30, 1993 with respect to Koyo. The revised weighted-average margins are as follows:

Company | BBs | CRBs | SPBs
Japan
Koyo Seiko | 12.15 | 3.43 | (¹)
¹ No shipments or sales subject to this review.

The Department will determine and the U.S. Customs Service will assess appropriate antidumping duties on entries of the subject merchandise made by firms covered by these reviews. Individual differences between United States price and foreign market value may vary from the percentages listed above. The Department will issue appraisement instructions with regard to Koyo to the U.S. Customs Service after publication of these amended final results of reviews.

This notice is published pursuant to section 751(a) of the Tariff Act. Effective January 20, 2001, Bernard T. Carreau is fulfilling the duties of the Assistant Secretary for Import Administration.

Dated: February 6, 2001.
Bernard T. Carreau,
Deputy Assistant Secretary, AD/CVD Enforcement II.

[FR Doc. 01-4539 Filed 2-22-01; 8:45 am]

BILLING CODE 3510-DS-P